COMMISSION ON CIVIL RIGHTS

Notice of Public Meeting of the Massachusetts Advisory Committee

AGENCY: Commission on Civil Rights.

ACTION: Announcement of meeting.

SUMMARY: Notice is hereby given, pursuant to the provisions of the rules and regulations of the U.S. Commission on Civil Rights (Commission), and the Federal Advisory Committee Act (FACA), that a meeting of the Massachusetts Advisory Committee to the Commission will convene at the law offices of Nutter McClennan and Fish, located at 155 Seaport Blvd. in Boston, MA 02210, at 12:00 p.m. (EST) on Tuesday, February 11, 2020. The purpose of the meeting is for project planning.

DATES: Tuesday, February 11, 2020, at 12:00 p.m. (EST).

ADDRESSES: Nutter McClennan and Fish, located at 155 Seaport Blvd., Boston, MA 02110.

FOR FURTHER INFORMATION CONTACT: Evelyn Bohor, at ero@usccr.gov or by phone at 202-376-7533.

SUPPLEMENTARY INFORMATION: If other persons who plan to attend the meeting require other accommodations, please contact Evelyn Bohor at ebohor@usccr.gov at the Eastern Regional Office at least ten (10) working days before the scheduled date of the meeting.

Time will be set aside at the end of the meeting so that members of the public may address the Committee after the planning meeting. Persons interested in the issue are also invited to submit written comments; the comments must be received in the regional office by Wednesday, March 11, 2018. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at https://facadatabase.gov/committee/meetings.aspx?cid=254 and clicking on the “Meeting Details” and “Documents” links. Records generated from this meeting may also be inspected and reproduced at the Eastern Regional Office, as they become available, both before and after the meeting. Persons interested in the work of this advisory committee are advised to go to the Commission's website, www.usccr.gov, or to contact the Eastern Regional Office at the above phone number, email or street address.

Agenda

Tuesday, February 11, 2020 at 12:00 p.m. (EDT)

I. Roll Call and Introduction

II. Planning to Discussion Potential Civil Rights Topics

III. Other Business

IV. Open Comment

IV. Adjournment

Dated: January 21, 2020.
David Mussatt,
Supervisory Chief, Regional Programs Unit.

[FR Doc. 2020-01262 Filed 1-24-20; 8:45 am]

BILLING CODE 6335-01-P